DEPARTMENT OF JUSTICE

Antitrust Division

Notice Pursuant to the National Cooperative Research and Production Act of 1993—The Composites Consortium

Notice is hereby given that, on March 27, 2006, pursuant to Section 6(a) of the National Cooperative Research and Production Act of 1993, 15 U.S.C. 4301 et seq. (“the Act”), The Composites Consortium (“TCC”) has filed written notifications simultaneously with the Attorney General and the Federal Trade Commission disclosing (1) the identities of the parties to the consortium and (2) the nature and objectives of the consortium. The notifications were filed for the purpose of invoking the Act's provisions limiting the recovery of antitrust plaintiffs to actual damages under specified circumstances.

Pursuant to Section 6(b) of the Act, the identities of the parties to the consortium are: Alliant Techsystems, Iuka, MS; Allied Aerospace, Newport News, VA; Bell Helicopter-TEXTRON, Inc., Fort Worth, TX; The Boeing Company, St. Louis, MO; Clemson University, Clemson, SC; Diaphorm Technologies, LLC, Salem, NH; General Dynamics Electric Boat, Groton, CT; Goodrich Corporation, Santa Fe Springs, CA; Graftech International Ltd., Parma, OH; Hitco Carbon Composites, Los Angeles, CA; Maverick Corporation/Canyon Composites, Blue Ash, OH; Mentis Sciences Inc., Manchester, NH; Mississippi State University, Mississippi State, MS; New Jersey Institute of Technology, Newark, NJ; Northrop Grumman Newport News/Ship Systems, Newport News, VA; Northrop Grumman Integrated Systems, El Segundo, CA; Pennsylvania State University—Applied Research Laboratory, State College, PA; Raytheon Company, Tucson, AZ; Specialty Materials, Inc., Lowell, MA; TPI Composites, Inc., Warren, RI; Vought Aircraft Industries, Inc., Dallas, TX; and South Carolina Research Authority, North Charleston, SC. The general area of TCC's planned activity is to further the state of the art and practice of employing composites in the manufacture of complex structures, systems, and components thereof. The intent is to: (a) Improve the affordability to the Navy and other Government agencies of structures and systems; (b) increase the technical and manufacturing capability of TCC members; and (c) broadly disseminate the technology.

Dorothy B. Fountain,
Deputy Director of Operations, Antitrust Division.

[FR Doc. 06-3868 Filed 4-24-06; 8:45 am]

BILLING CODE 4410-11-M